ENVIRONMENTAL PROTECTION AGENCY

40 CFR Part 52

[EPA-R04-OAR-2024-0606; FRL-12862-02-R4]

Air Plan Approval; GA; Updates to the Cross-State Air Pollution Rule

AGENCY: Environmental Protection Agency (EPA).

ACTION: Final rule.

SUMMARY: The Environmental Protection Agency (EPA) is approving a State Implementation Plan (SIP) revision submitted through the Georgia Environmental Protection Division (GA EPD) on July 18, 2024, regarding updates to the State's Cross-State Air Pollution Rule (CSAPR) emissions trading programs. The SIP revision incorporates by reference (IBRs) certain amendments EPA has made to the regulations for the Federal CSAPR trading programs for annual emissions of nitrogen oxides (NOX) and sulfur dioxide (SO2) and NOX ozone season (from May 1 to September 30), all three of which apply to large electric generating units (EGUs). The SIP revision also updates the definition for “Volatile organic compound.” EPA is approving Georgia's July 18, 2024, SIP revision because it is consistent with the Clean Air Act (CAA or Act).

DATES: This rule is effective November 3, 2025.

ADDRESSES: EPA has established a docket for this action under Docket Identification No. EPA-R04-OAR-2024-0606. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. Mr. Ortiz can be reached via phone number (404) 562-8085 or via electronic mail at ortizborrero.josue@epa.gov.

SUPPLEMENTARY INFORMATION:

I. This Action

In this final rule EPA is approving a revision to the Georgia SIP, submitted by the GA EPD on July 18, 2024. The revision updates Georgia's incorporation by reference of Federal rules for the CSAPR NOX Annual, SO2 Group 2, and NOX Ozone Season Group 1 Trading Programs at: Rule 391-3-1-.02(12), “Cross State Air Pollution Rule NOX Annual Trading Program;” Rule 391-3-1-.02(13), “Cross State Air Pollution Rule SO2 Annual Trading Program;” and Rule 391-3-1-.02(14), “Cross State Air Pollution Rule NOX Ozone Season Trading Program. The SIP submission also updates the State's definition of “Volatile organic compounds” (VOC) at Rule 391-3-1-.01, Definitions, at subparagraph (llll) to align with the federal definition at 40 CFR 51.100(s). EPA has determined that the IBR update at Rules 391-3-1-.02(12), 391-3-1-.02(13), and 391-3-1-.02(14) included in Georgia's SIP revision is consistent with the Federal CSAPR NOX Annual, CSAPR SO2 Group 2, and CSAPR NOX Ozone Season Group 1 Trading Program regulations. EPA has determined, that, with these updates, Georgia's State CSAPR rules will continue to satisfy the State's “good neighbor” obligations under CAA section 110(a)(2)(D)(i)(I) to prohibit emissions that significantly contribute to nonattainment or interfere with maintenance of the 1997 annual fine particulate matter (PM2.5) NAAQS, the 2006 24-hour PM2.5 NAAQS, and the 1997 8-hour ozone NAAQS in downwind states. EPA is finalizing this action because the changes are consistent with the CAA and EPA's regulations.

II. Background

On July 18, 2024, GA EPD transmitted a SIP revision ¹ to update the State's CSAPR emissions trading programs to incorporate by reference (IBR) certain amendments EPA has made to the regulations for the Federal CSAPR NOX Annual, SO2 Group 2, and NOX Ozone Season Group 1 trading programs for EGUs. EPA created these Federal trading programs in 2011 as market-based mechanisms for Georgia and other states to address their obligations to downwind states under the CAA section 110(a)(2)(D)(i)(I) good neighbor provision with respect to the 1997 PM2.5 and ground-level ozone NAAQS and 2006 PM2.5 NAAQS.²

¹ EPA is not acting on proposed changes in Georgia's July 18, 2024, submittal regarding Rule 391-3-1-.02(8), New Source Performance Standards, and 391-3-1-.02(9), Emission Standards for Hazardous Air Pollutants because these rules are not included in EPD's federally approved SIP and are not submitted as SIP revisions.

² Georgia has been subject to CSAPR since its inception, with EGUs required to participate in Federal trading programs for NOX and SO2 emissions. As part of the original CSAPR in 2011, EPA determined that emissions from Georgia significantly contributed to nonattainment or interference with maintenance of the 1997 ozone NAAQS, 1997 annual PM2.5 NAAQS, and 2006 24-hour PM2.5 in other states. See 76 FR at 48213.

Through a notice of proposed rulemaking (NPRM) published on August 14, 2025 (90 FR 39144), EPA proposed to approve the portions of Georgia's July 18, 2024,³ SIP submission that update 391-3-1-.02(12), 391-3-1-.02(13), and 391-3-1-.02(14) by incorporating into the Georgia SIP the amendments to the Federal CSAPR NOX Annual and SO2 Group 2 trading programs at 40 CFR part 97, subparts AAAAA and DDDDD, respectively, and the NOX Ozone Season Group 1 Trading Program established in subpart BBBBB promulgated in EPA's 2021 Revised CSAPR Update ⁴ and 2022 Recordation Rule ⁵ and the technical corrections or cross-references in the 2023 Good Neighbor Plan (GNP).⁶ Georgia Rules 391-3-1-.02(12)(a) and 391-3-1-.02(13)(a) are revised to update the IBR date from October 26, 2016, to June 5, 2023, for the NOX Annual and Group 2 SO2 Trading Programs respectively. Georgia Rule 391-3-1-.02(14)(a) is revised to update the IBR date from October 26, 2016, to July 31, 2023, for the NOX ozone season to incorporate the relevant amendments to the Federal rules at 40 CFR part 97 Subpart AAAAA, DDDDD, and BBBBB, respectively. Specifically, Georgia's SIP revision replaces these citations with the updated citations to June 5, 2023 (88 FR 36654) for subparts AAAAA and DDDDD at Rules 391-3-1-.02(12) and 391-3-1-.02(13), and to July 31, 2023 (88 FR 49295) for subpart BBBBB at Rule 391-3-1-.02(14). Georgia's July 18, 2024, SIP revision also updates the portions of the emissions budgets reserved in the new unit set-asides (NUSAs) for all three trading programs ⁷ from 1,075 tons to 1,074 tons for the CSAPR NOX Annual allowances at Georgia Rule 391-3-1-.02(12)(f)2.; from 2,711 tons to 2,721 tons for the CSAPR SO2 Group 2 allowances at Georgia Rule 391-3-1-.02(13)(f)2.; and from 481 tons to 485 tons for the CSAPR NOX Ozone Season Group 1 allowances at Georgia Rule 391-3-1-.02(14)(f)2.

³ EPA is not acting on changes reflected in this submittal to South Carolina Regulation 61-62.60, subpart XXX, subpart IIII, subpart JJJJ, and South Carolina Regulation 61-62.63, subpart C, subpart AAAA, subpart YYYY, subpart ZZZZ, subpart DDDDD, subpart GGGGG, subpart IIIII, and subpart HHHHHH, since these rules are not part of the SIP.

⁴ Revised Cross-State Air Pollution Rule Update for the 2008 Ozone NAAQS, 86 FR 23054 (Apr. 30, 2021).

⁵ Deadlines for Submission and Recordation of Allowance Allocations Under the Cross-State Air Pollution Rule (CSAPR) Trading Programs and the Texas SO2 Trading Program, 87 FR 52473 (Aug. 26, 2022).

⁶ See 88 FR 36654 (June 5, 2023). For additional context on Georgia's July 18, 2024, SIP submittal and the GNP, see EPA's August 14, 2025, NPRM (90 FR 39144).

⁷ In 2021, EPA promulgated the corrected NUSA amounts in part 97 in the Revised CSAPR Update. The Revised CSAPR Update also included revised regulatory text in 40 CFR part 52 that authorizes EPA to administer the trading programs using the corrected NUSA amounts even in instances where a state's approved SIP still includes the previous uncorrected NUSA amounts. See 40 CFR 52.38(a)(7)(i)(B) (NOX Annual), 52.38(b)(14)(i)(B) (NOX Ozone Season Group 1), and 52.39(k)(1)(ii) (SO2 Group 2).

This revised IBR language ensures that the text of the Federal regulations incorporated into Georgia's SIP is consistent with the most recent Federal amendments that EPA made to the Federal trading program regulations after the Agency had previously approved Georgia's CSAPR trading program regulations into the SIP and by correcting cross-references. EPA is therefore taking final action to approve Georgia's July 18, 2024, SIP submission respecting revisions to Rule 391-3-1-.02. EPA is also taking final action to approve Georgia's July 18, 2024, SIP submission that revises Rule 391-3-1-.01, Definitions, for “Volatile organic compound” (VOC) at subparagraph (llll) to adds trans-1,1,1,4,4,4-hexafluorobut-2-ene (HFO-1336mzz(E)) to the list of organic compounds excluded from the regulatory definition of VOC due to negligible reactivity,⁸ as well as other administrative updates to improve consistency with the Federal VOC definition at 40 CFR 51.100(s).

⁸ Tropospheric or ground-level ozone occurs when VOC and NOX react in the atmosphere in the presence of sunlight. Because of the harmful effects of ozone, EPA and State governments implement rules to limit the amount of certain VOC and NOX that can be released into the atmosphere. CAA section 302(s) specifies that EPA has the authority to define the meaning of “VOC” and hence, what compounds shall be treated as VOC for regulatory purposes. EPA determines whether a given carbon compound has “negligible” reactivity by comparing the compound's reactivity to the reactivity of ethane. EPA's longstanding policy is that compounds of carbon with negligible reactivity need not be regulated to reduce ground-level ozone and should be excluded from the regulatory definition of VOC. See 42 FR 35314 (July 18, 1977), 70 FR 54046 (September 13, 2005). EPA lists these compounds in its regulations at 40 CFR 51.100(s) and excludes them from the definition of VOC.

In this rulemaking, EPA is finalizing its approval of these portions of the SIP submission as they are consistent with the Federal CSAPR NOX Annual Trading Program, the Federal CSAPR SO2 Group 2 Trading Program and the Federal CSAPR NOX Ozone Season Group 1 Trading Program ⁹ regulations in 40 CFR part 97, subparts AAAAA, BBBBB, and DDDDD which satisfy the good neighbor requirements of CAA section 110(a)(2)(D)(i)(I), and the VOC definition in 40 CFR 51.100(s). The details of the Georgia submission and the rationale for EPA approving these changes are explained in the August 14, 2025, NPRM. Comments on the August 14, 2025, NPRM were due on or before September 15, 2025. No comments were received on the August 14, 2025, NPRM adverse or otherwise.

⁹ Following the CSAPR Update, Georgia is the only state whose units participate in this trading program. See 40 CFR 52.38(b)(2)(i); CSAPR Update, 81 FR at 74509.

III. Incorporation by Reference

In this document, EPA is finalizing regulatory text that includes incorporation by reference. In accordance with requirements of 1 CFR 51.5, and as discussed in Section II of this preamble, EPA is finalizing the incorporation by reference Georgia Rules 391-3-1-.02(12), Cross State Air Pollution Rule NOX Annual Trading Program; 391-3-1-.02(13), Cross State Air Pollution Rule SO2 Annual Trading Program; and 391-3-1-.02(14), Cross State Air Pollution Rule NOX Ozone Season Trading Program, state effective July 15, 2024, which adopt and incorporate by reference Federal amendments to 40 CFR part 97, subpart AAAAA—CSAPR NOX Annual Trading Program, and subpart DDDDD—CSAPR SO2 Group 2 Trading Program, as promulgated after October 26, 2016, through June 5, 2023 and subpart BBBBB—CSAPR NOX Ozone Season Group 1 Trading Program through July 31, 2023. EPA is also finalizing the incorporation by reference Georgia Rule 391-3-1-.01, Definitions, at section (llll), state effective July 15, 2024, which updates the definitions of “Volatile organic compound.” EPA has made, and will continue to make, these materials generally available through www.regulations.gov and at the EPA Region 4 office (please contact the person identified in the For Further Information Contact section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.¹⁰

¹⁰ See 62 FR 27968 (May 22, 1997).

IV. Final Action

For the aforementioned reasons, EPA is approving the July 18, 2024, SIP revision consisting of changes to Georgia Air Quality Rules related to the CSAPR trading programs found at Rules 391-3-1-.02(12), 391-3-1-.02(13), and 391-3-1-.02(14), and the definition for “Volatile organic compound” found at Rule 391-3-1-.01(llll).

V. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by December 1, 2025. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Nitrogen dioxide, Ozone, Particulate matter, Reporting and recordkeeping requirements, Sulfur oxides.

Dated: September 22, 2025.
Kevin McOmber,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart L—Georgia

2. In § 52.570(c), amend the table by revising the entry for “391-3-1-.01”, “391-3-1-.02(12)”, “391-3-1-.02(13)”, and “391-3-1-.02(14)”. The revisions to read as follows:

§ 52.570 Identification of plan.

* * * * *

(c) * * *

Table 1 to Paragraph (c)—EPA-Approved Georgia Regulations
State citation | Title/subject | State effective date | EPA approval date | Explanation
* * * * * * *
391-3-1-.01 | Definitions | 7/29/2020 | 4/5/2022, 87 FR 19643 | Except the first paragraph, sections (a)-(nn), (pp)-(ccc), (eee)-(jjj), (nnn)-(bbbb), (dddd)-(kkkk), (mmmm), (rrrr)-(ssss), which were approved on 12/4/2018 with a state effective date of 7/20/2017; sections (ddd) and (cccc) which were approved on 2/2/1996 with a state effective date of 11/20/1994; section (llll) which was approved on 10/2/2025 with a state effective date of 7/15/2024; (nnnn), which was approved on 1/5/2017 with a state effective date of 8/14/2016; and sections (oooo) and (pppp), which are not in the SIP.
* * * * * * *
391-3-1-.02(12) | Cross State Air Pollution Rule NOX Annual Trading Program | 7/15/2024 | 10/2/2025, 90 FR [Insert Federal Register page where the document begins]
391-3-1-.02(13) | Cross State Air Pollution Rule SO2 Annual Trading Program | 7/15/2024 | 10/2/2025, 90 FR [Insert Federal Register page where the document begins]
391-3-1-.02(14) | Cross State Air Pollution Rule NOX Ozone Season Trading Program | 7/15/2024 | 10/2/2025, 90 FR [Insert Federal Register page where the document begins]
* * * * * * *

* * * * *

[FR Doc. 2025-19226 Filed 10-1-25; 8:45 am]

BILLING CODE 6560-50-P